DEPARTMENT OF TRANSPORTATION

Federal Aviation Administration

[Docket No. FAA-2003-15158

Technical Standard Order—C37e, VHF Radio Communications Transmitting Equipment Operating Within the Radio Frequency Range 117.975 to 137.000 Megahertz

AGENCY: Federal Aviation Administration, DOT.

ACTION: Notice of availability and requests for public comment.

SUMMARY: This notice announces the availability of and request comments on a revised Technical Standard Order (TSO)-C37e, VHF Radio Communications Transmitting Equipment Operating Within the Radio Frequency Range 117.975 to 137.000 Megahertz. The revised TSO tells manufacturers seeking TSO authorization or letter of design approval what minimum performance standards (MPS) their VHF radio communications transmitting equipment must first meet for approval and identification with the applicable TSO markings.

DATES: Submit comments on or before June 19, 2003.

ADDRESSES: Send all comments on the proposed TSO revision to: Federal Aviation Administration, Aircraft Engineering Division, Aircraft Certification Service, Room 815, AIR-130, 800 Independent Avenue, SW., Washington, DC 20591. Attn: Mr. Moin Abulhosn, AIR-130. You may deliver comments to: Federal Aviation Administration, Room 815, 800 Independent Avenue, SW., Washington, DC 20591.

FOR FURTHER INFORMATION CONTACT: Mr. Moin Abulhosn, AIR-130, Room 815, Federal Aviation Administration, Aircraft Engineering Division, Aircraft Certification Service, 800 Independent Avenue, SW., Washington, DC 20591, telephone (202) 385-4648, Fax: (202) 385-4651.

SUPPLEMENTARY INFORMATION:

Comments Invited

You are invited to comment on the proposed revised TSO listed in this notice by submitting written data, views, or arguments to the address listed above. Your comments should identify “Comments to TSO-C37e.'' You can examine all comments on the proposed revised TSO before and after the comment closing date at the Federal Aviation Administration, Room 815, 800 Independent Avenue, SW., Washington, DC 20591, weekdays except Federal holidays, between 8:30 a.m. and 4:30 p.m. The Director of the Aircraft Certification Service will consider all communications received on or before the closing date before issuing the final revised TSO.

Background

This proposed revision to TSO-C37d includes the latest TSO boilerplate language. This language incorporates a Functionality definition used to specify the Function Hazard Classification. Furthermore, the data required with the TSO application has been slightly modified to include:

a. The minimum operational performance standards defined by RTCA/DO-186A, “Minimum Operational Performance Standards for Airborne Radio Communications Equipment Operating Within the Radio Frequency Range 117.975-137.00 Mhz,” Section 2.0, dated October 20, 1995, including Change 1, dated September 29, 1998, and Change 2, dated March 5, 2002.

b. The minimum requirements of 8.33 kHz channel spacing transmitters (Class 5 and 6) as defined by RTCA/DO-186A, including Changes 1 and 2, while retaining requirements of 25 kHz channel spacing transmitters (Class 3 and 4) of TSO-37d.

c. By reference to RTCA/DO-186A, including Channels 1 and 2, addresses the electromagnetic compatibility with the Global Navigation Satellite System (GNSS).

d. The environmental conditions and test procedures specified in RTCA/DO-160D, including Changes 1, 2, and 3.

The basic TSO provides minimum performance standards for VHF radio communications transmitting equipment. Incorporated within this standard are equipment characteristics that should be useful to users, designers, manufacturers, and installers of VHF radio communications transmitting equipment.

How To Obtain Copies

You may get a copy of the proposed revised TSO from the Internet at: http://av-info.faa.gov./tso/Tsopro/Proposed.htm. You may also request a copy from Mr. Moin Abulhosn. See the section entitled FOR FURTHER INFORMATION CONTACT for the complete address.

Issued in Washington, DC, on May 14, 2003.
David W. Hempe,
Manager, Aircraft Engieering Division, Aircraft Certification Service.

[FR Doc. 03-12641 Filed 5-19-03; 8:45 am]

BILLING CODE 4910-13-M